DEPARTMENT OF LABOR

Employment and Training Administration

[TA-W-73,756]

Progressive Furniture, Inc., Including On-Site Leased Workers From Onin Staffing, a Subsidiary of Sauder Furniture, Claremont, NC; Notice of Affirmative Determination Regarding Application for Reconsideration

On July 19, 2010, the Department issued a determination regarding workers' eligibility to apply for Trade Adjustment Assistance (TAA) applicable to workers and former workers of the subject firm. The Department's Notice of Determination was published in the Federal Register on August 6, 2010 (75 FR 47635).

The initial investigation resulted in a negative determination based on the findings that there was no increase in imports or shift to/acquisition from a foreign country of decommissioning services by the workers' firm, and that the workers' firm did not produce an article or supply a service that was used by a firm with workers eligible to apply for TAA in the production of an article or supply of a service that was the basis for TAA-certification.

Subsequent to the issuance of the negative determination, the Department was informed of a mistake in fact in the case at hand.

Based on this new information, the Department has determined that it is appropriate for the Department to conduct further investigation to determine if the workers meet the eligibility requirements of the Trade Act of 1974, as amended.

Conclusion

After careful review, I conclude that a reconsideration of the U.S. Department of Labor's prior decision is appropriate.

Signed at Washington, DC, this 13th day of August, 2010.
Del Min Amy Chen,
Certifying Officer, Office of Trade Adjustment Assistance.

[FR Doc. 2010-28489 Filed 11-10-10; 8:45 am]

BILLING CODE 4510-FN-P